DEPARTMENT OF HEALTH AND HUMAN SERVICES

Indian Health Service

Behavioral Health Integration Initiative

Announcement Type: New.

Funding Announcement Number: HHS-2022-IHS-BH2I-0001.

Assistance Listing (Catalog of Federal Domestic Assistance or CFDA) Number: 93.654.

Key Dates

Application Deadline Date: February 2, 2022.

Earliest Anticipated Start Date: March 21, 2022.

I. Funding Opportunity Description

Statutory Authority

The Indian Health Service (IHS) is accepting applications for grants for the Behavioral Health Integration Initiative (BH2I) to plan, develop, implement, and evaluate behavioral health integration with primary care, community-based settings, and/or integrating primary care, nutrition, diabetes care, and chronic disease management with behavioral health. This program is authorized under the Snyder Act, 25 U.S.C. 13; the Transfer Act, 42 U.S.C. 2001(a); and the Indian Health Care Improvement Act, Subchapter V-A (Behavioral Health Programs), 25 U.S.C. 1665 et seq. This program is described in the Assistance Listings located at https://sam.gov/content/home (formerly known as the CFDA) under 93.654.

Background

The IHS supports changing the paradigm of mental health and substance use disorder to the patient-centered home model from the episodic, fragmented, specialty, and/or disease focused former models. Research has shown that more than 70 percent of primary care visits stem from behavioral health issues. Depression is the most common type of mental illness, currently affecting more than a quarter of the United States (U.S.) adult population. With major depression currently the second leading cause of disability, it is clear that primary care settings have become an important access point for addressing both physical and behavioral health care needs. In addition, American Indian and Alaska Native (AI/AN) communities experience alarming rates of suicide, alcohol and drug-related deaths, domestic and sexual violence, and homicide. Describing the burden of trauma within any population is difficult; however, indicators measuring socially destructive behaviors are often used to illustrate impacts of trauma through lifespan accumulation and chronic stress. Studies now indicate that trauma can be passed from one generation to the next, resulting in intergenerational and historical trauma. While mental health needs can often go untreated and even unnoticed, the lasting effects of childhood trauma into adulthood are often evident in physical manifestations leading to negative health consequences. These extreme disparities highlight an urgent need for improving access to mental health services in primary care for children and families through the integration of behavioral health services, including trauma-informed care, within primary care settings. The majority of people with behavioral health disorders treated within an integrated primary care setting have improved outcomes because behavioral and physical health problems are interwoven, and the delivery of behavioral health services in primary care settings reduces stigma and discrimination often associated with seeking help for behavioral health disorders.

Purpose

The purpose of the BH2I program is to improve the physical and mental health status of people with behavioral health issues by developing an integrated and coordinated system of care. This effort supports the IHS mission to raise the physical, mental, social, and spiritual health of AI/AN individuals to the highest level. Increasing capacity among Tribal and Urban Indian Organization (UIO) health facilities to implement an integrative approach in the delivery of behavioral health services, including trauma-informed care, nutrition, exercise, social, spiritual, cultural, and primary care services, will improve morbidity and mortality outcomes among the AI/AN population. In addition, this effort will support activities to improve the quality of life for individuals suffering from mental illness, substance use disorders, and adverse childhood experiences. Other outcomes related to this effort include improved behavioral health services to increase access to integrated health and social well-being services and the early identification and intervention of mental health, substance use, and serious physical health issues, including chronic disease. This work will also identify and assess various models addressing unique integrative needs and the challenges, barriers, and successes in AI/AN health systems. Finally, an improvement in the overall health of patients participating in integrative programs is expected.

For this grant, the full spectrum of behavioral health services are strongly encouraged and are defined as screening for mental and substance use disorders, including serious mental illness; alcohol, substance, and opioid use disorders; suicidality and trauma (e.g., interpersonal violence, physical abuse, adverse childhood experiences) assessment, including risk assessment and diagnosis; patient-centered treatment planning, evidence-based outpatient mental and substance use disorder treatment services (including pharmacological and psychosocial services); crisis services; peer support services; and care coordination.

Models of Care

The IHS understands unique challenges and circumstances exist across Tribal communities and sites. In fact, integrative models of care vary according to needs and capabilities but all strive to enhance clinical processes and workflow across multi-disciplinary teams. This program will support sites that have identified gaps in services and established efforts to link critical policy and service-level connections, including new and innovative ways of conducting business between differing management and operations of Federal and Tribal health services and programs. In addition, participants can expect to use technologies that facilitate behavioral health integration including technology that increases the site's ability to create a patient registry; document current procedural terminology (CPT) codes; and track behavioral health assessment scores with the capacity to provide care coordination between the behavioral health and primary care team.

Additional Required Activity

Grantees must plan to send a minimum of two people (including the project director) to at least one joint grantee meeting in every other year of the period of performance. For this grant cohort, grantee meetings will likely be held in years one, three, and five of the period of performance. You must include a detailed budget and narrative for this travel in your budget. At these meetings, grantees will present the results of their projects and Federal staff will provide technical assistance. Each meeting will be up to three days. These meetings are usually held in the Washington, DC, area and attendance is mandatory. The IHS reserves the right to hold these grantee meetings through virtual/remote teleconference if the IHS budget or travel restrictions are prohibitive for holding an in-person meeting.

II. Award Information

Type of Award—Grant

Estimated Funds Available

The total funding identified for fiscal year (FY) 2022 is approximately $6,000,000. Individual award amounts for the first budget year are anticipated to be between $300,000 and $400,000. The funding available for competing and subsequent continuation awards issued under this announcement is subject to the availability of appropriations and budgetary priorities of the agency. The IHS is under no obligation to make awards that are selected for funding under this announcement.

Anticipated Number of Awards

Approximately 15 awards will be issued under this program announcement, with a set aside of up to two awards issued to eligible UIOs.

Period of Performance

The period of performance is for 5 years.

III. Eligibility Information

1. Eligibility

To be eligible for this funding opportunity an applicant must be one of the following as defined by 25 U.S.C. 1603:

• A federally recognized Indian Tribe as defined by 25 U.S.C. 1603(14). The term “Indian Tribe” means any Indian Tribe, band, nation, or other organized group or community, including any Alaska Native village or group, or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: Provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29). The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of nonprofit status with the application, e.g., 501(c)(3).

The program office will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. The Division of Grants Management (DGM) will notify the applicant.

Additional Required Documentation

Tribal Resolution

The DGM must receive an official, signed Tribal Resolution prior to issuing a Notice of Award (NoA) to any applicant selected for funding. An Indian Tribe or Tribal organization that is proposing a project affecting another Indian Tribe must include resolutions from all affected Tribes to be served. However, if an official, signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official, signed Tribal Resolution to the GMS. If the signed Tribal Resolution is not received within 90 days, the award will be forfeited.

Tribes organized with a governing structure other than a Tribal council may submit an equivalent document commensurate with their governing organization.

Proof of Nonprofit Status

Organizations claiming nonprofit status must submit a current copy of the 501(c)(3) Certificate with the application.

IV. Application and Submission Information

1. Obtaining Application Materials

The application package and detailed instructions for this announcement are available at https://www.Grants.gov.

Please direct questions regarding the application process to Mr. Paul Gettys at (301) 443-2114 or (301) 443-5204.

2. Content and Form Application Submission

Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 17 pages). See Section IV.2.A, Project Narrative for instructions.

1. Background information on the organization.

2. Proposed scope of work, objectives, and activities that provide a description of what the applicant plans to accomplish.

• Budget Justification and Narrative (not to exceed four pages). See Section IV.2.B, Budget Narrative for instructions.

• Tribal Resolution(s).

• Letter(s) of Support:

1. For all applicants: From local organizational partners;

2. For all applicants: From community partners;

3. For Tribal organizations and UIOs: From the board of directors (or relevant equivalent).

• 501(c)(3) Certificate (if applicable).

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website at https://harvester.census.gov/facdissem/Main.aspx.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 17 pages and must: (1) Have consecutively numbered pages; (2) use black font 12 points or larger; (3) be single-spaced; and (4) be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and will not be reviewed. The 17-page limit for the narrative does not include the work plan, standard forms, Tribal Resolutions, budget, budget justifications, narratives, and/or other items.

There are five parts to the project narrative:

Part A—Statement of Need;

Part B—Program Planning and Implementation Approach;

Part C—Staff and Organization Capacity;

Part D—Performance Assessment and Data; and

Part E—Evaluation Plan.

See below for additional details about what must be included in the narrative.

Part A: Statement of Need (Limit—2 Pages)

Describe the current situation in the applicant's Tribal community (“community” means the applicant's Tribe, village, Tribal organization, or consortium of Tribes or Tribal organizations). Provide the facts and evidence that support the need for the project, and that establish the Tribe, Tribal organization, or UIO understands the problems and can reasonably address them.

Part B: Program Planning and Implementation Approach (Limit—9 Pages)

• State the purpose, goals, and objectives of your proposed project.

• Describe evidence-based programs, services, or practices you propose to implement, or to continue to implement through support of this grant opportunity.

• Describe your plan to formally integrate behavioral health through your health care system.

Part C: Staff and Organization Capacity (Limit—2 Pages)

This section should describe the applicant's organization and structure and the capabilities possessed to complete proposed activities. This program will focus on the applicant's ability to implement a formalized integration plan focused on enhancing the clinical processes for patient care among the IHS service areas.

• Identify a program director who will implement proposed grant activities and administer the grant, including progress and financial reports or provide salary costs for the addition of full-time equivalent (FTE) licensed behavioral health provider(s).

Part D: Performance Assessment and Data (Limit—2 Pages)

This section of the application should describe efforts to collect and report project data that will support and demonstrate BH2I activities. BH2I grantees will be required to collect and report data pertaining to activities, processes, and outcomes. Data collection activities should capture and document actions conducted throughout awarded years, including those that will contribute relevant project impact.

Part E: Evaluation Plan (Limit—2 Pages)

The evaluation section should describe applicant's plan to evaluate program activities. The evaluation plan should describe expected results and any identified metrics to support program effectiveness. Evaluation plans should incorporate questions related to outcomes and processes including documentation of lessons learned.

• Describe efforts to monitor improvements through the evaluation of the following:

1. Implementation team.

2. Partnerships to achieve goals.

3. Sustainability.

4. Level of integration.

5. Measurement-based screening tools.

6. Patient tracking system.

B. Budget Narrative (Limit—4 Pages)

Provide a budget narrative that explains the amounts requested for each line item of the budget from the SF-424A (Budget Information for Non-Construction Programs). The budget narrative can include a more detailed spreadsheet than is provided by the SF-424A. The budget narrative should specifically describe how each item will support the achievement of proposed objectives. Be very careful about showing how each item in the “Other” category is justified. For subsequent budget years (see Multi-Year Project Requirements in Section V.1, Application Review Information, Evaluation Criteria), the narrative should highlight the changes from year one or clearly indicate that there are no substantive budget changes during the period of performance. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant will be awarded per applicant.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method; and (2) include clear justification for the need to deviate from the required application submission process.

Once the waiver request has been approved, the applicant will receive a confirmation of approval email containing submission instructions. A copy of the written approval must be included with the application that is submitted to the DGM. Applications that are submitted without a copy of the signed waiver from the Acting Director of the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, the applicant will receive an automatic acknowledgment from Grants.gov that contains a Grants.gov tracking number. The IHS will not notify the applicant that the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://sam.gov (U.S. organizations will also need to provide an Employer Identification Number from the Internal Revenue Service that may take an additional 2-5 weeks to become active). Please see SAM.gov for details on the registration process and timeline. Registration with the SAM is free of charge but can take several weeks to process. Applicants may register online at https://sam.gov.

Additional information on implementing the Transparency Act, including the specific requirements for DUNS and SAM, are available on the DGM Grants Management, Policy Topics web page at https://www.ihs.gov/dgm/policytopics/.

V. Application Review Information

Possible points assigned to each section are noted in parentheses. The project narrative and budget narrative should include only the first year of activities; information for multi-year projects should be included as a separate document. See “Multi-year Project Requirements” at the end of this section for more information. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

Applications will be reviewed and scored according to the quality of responses to the required application components in Sections A-F outlined below. In developing the required sections of this application, use the instructions provided for each section, which have been tailored to this program. The application must use the six sections (Sections A-F) in developing the application. The applicant must place the required information in the correct section or it will not be considered for review. The number of points after each section heading is the maximum number of points the review committee may assign to that section. Although scoring weights are not assigned to individual bullets, each bullet is assessed deriving the overall section score.

A. Statement of Need (25 Points)

• Describe the service area/target population demonstrating the need for new/increased integrated primary health care/behavioral health services.

• Describe the needs in your service area and/or among your target population for new/increased integrated primary health care/behavioral health services.

• Describe the unique characteristics of the service area and population that impact access to or utilization of behavioral health care.

• Describe existing behavioral health care providers in the service area, including identified gaps in behavioral health care services the applicant can address via BH2I funds.

B. Program Planning and Implementation Approach (25 Points)

• Describe the purpose, goals, and objectives of the proposed project to address the mental and physical health needs through an integrated approach between primary health care/behavioral health services.

• Describe the evidence-based practices, practice-based evidence, promising practices, and intervention efforts, including culturally appropriate services and interventions, to produce meaningful and relevant results including additional details to support evidence of effectiveness to support the proposed project.

• Describe the current level of behavioral health integration (using the SAMHSA-HRSA Center for Integrated Health Solutions framework at https://www.integration.samhsa.gov/integrated-care-models/CIHS_Framework_Final_charts.pdf) and forecast how they will progress to higher levels of health integration.

• Describe the plan to formally integrate behavioral health through:

1. Improving workflow in the assessment of behavioral health in primary care such as screenings, referral, and policy development;

2. Improving or changing health information technology in ways that facilitate behavioral health integration;

3. Improving physical environment barriers in the delivery of integrated health care;

4. Cross training of staff, including psycho-education training for staff within primary care settings and basic medical education for behavioral health staff;

5. Establishing formal and informal channels of communication to facilitate behavioral health integration.

C. Staff and Organizational Capacity (20 Points)

• Describe the organization's current system of providing at least one service of primary care and/or behavioral health, including screening, assessment, and care management. Describe the delivery, operation, and/or management of at least one portion of direct primary care or behavioral health treatment services.

• Describe how you will identify qualified professionals who will implement proposed grant activities, administer the grant, including completion and submission of progress and financial reports, and how project continuity will be maintained if/when there is a change in the operational environment (e.g., staff turnover, change in project leadership) to ensure project stability over the life of the grant.

• Describe the organization's plan to hire full-time equivalent (FTE) licensed behavioral health provider(s).

• Include a biographical sketch for individuals identified and currently on staff in the project director, project coordinator, and other key positions as attachments to the project proposal/application. Each biographical sketch should not exceed one page. Do not include any of the following:

1. Personally Identifiable Information;

2. Resumes; or

3. Curriculum Vitae.

D. Performance Assessment & Data (10 Points)

• Describe plans for data collection, management, analysis, and reporting for integration activities.

• Describe your process for data collection that will be required as part of the evidence-based practice, or proposed evidence-based projects.

• Explain the proposed efforts to utilize health information technology including accessibility, collection, and monitoring of relevant data for proposed BH2I project.

• Discuss the proposed evaluation methods (including expertise and tools) to assess impacts and outcomes.

E. Evaluation Plan (10 Points)

• Describe proposed methods, including quantitative and qualitative tools and resources, techniques to measure outcomes, and any partners who will conduct evaluation if separate from the primary applicant.

• Describe performance measures and other data relevant to evaluation outcomes, including intended results (i.e., impact and outcomes).

• Discuss how expected results will be measured (define indicators or tools used to monitor and measure progress).

• Describe a plan to monitor improvements through the evaluation of increased coordinated care, co-located care, and integrated care using the SAMHSA-HRSA Center for Integrated Health Solutions six-level framework at https://www.integration.samhsa.gov/integrated-care-models/A_Standard_Framework_for_Levels_of_Integrated_Healthcare.pdf.

F. Categorical Budget and Budget Justification (10 Points)

This narrative must include a line item budget with a narrative justification for all expenditures identifying reasonable allowable, allocable costs necessary to accomplish the goals and objectives as outlined in the project narrative. Budget should match the scope of work described in the project narrative and include anticipated travel to the grantee meeting in the first year. Anticipated travel in subsequent years should be included in the multi-year project narrative and budget. The budget and budget narrative should not exceed four pages.

Multi-Year Project Requirements

Applications must include a brief project narrative and budget (one additional page per year) addressing the developmental plans for each additional year of the project. This attachment will not count as part of the project narrative or the budget narrative.

Additional documents can be uploaded as Other Attachments in Grants.gov. These can include:

• Work plan, logic model, and/or timeline for proposed objectives.

• Position descriptions for key staff.

• Resumes of key staff to reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened for eligibility and completeness as outlined in the funding announcement. Applications that meet the eligibility criteria shall be reviewed for merit by the Objective Review Committee (ORC) based on evaluation criteria. Incomplete applications and applications that are not responsive to the administrative thresholds (budget limit, project period limit) will not be referred to the ORC and will not be funded. The applicant will be notified of this determination.

Applicants must address all program requirements and provide all required documentation.

3. Notifications of Disposition

All applicants will receive an Executive Summary Statement from the IHS Division of Behavioral Health within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, and the budget/project period. Each entity approved for funding must have a user account in GrantSolutions in order to retrieve the NoA. Please see the Agency Contacts list in Section VII for the systems contact information.

B. Approved But Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2020-title45-vol1/pdf/CFR-2020-title45-vol1-part75.pdf.

• Please review all HHS regulatory provisions for Termination at 45 CFR 75.372, at https://www.ecfr.gov/cgi-bin/retrieveECFR?gp&SID=2970eec67399fab1413ede53d7895d99&mc=true&n=pt45.1.75&r=PART&ty=HTML&se45.1.75_1372#se45.1.75_1372.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E.

E. Audit Requirements:

• Uniform Administrative Requirements for HHS Awards, “Audit Requirements,” at 45 CFR part 75 subpart F.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of indirect costs (IDC) in their grant application. In accordance with HHS Grants Policy Statement, Part II-27, IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent only applies to applicants that have never received an approved negotiated indirect cost rate from HHS or another cognizant Federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS grantees are negotiated with the Division of Cost Allocation at https://rates.psc.gov/ or the Department of the Interior (Interior Business Center) at https://ibc.doi.gov/ICS/tribal. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required annually. The progress reports are due within 30 days after the reporting period ends (specific dates will be listed in the NoA Terms and Conditions). These reports will include a set of standard questions that will be provided to each grantee. Additional information for reporting and associated requirements will be in the “Programmatic Terms and Conditions” in the official NoA, if funded. A final report must be submitted within 90 days of expiration of the period of performance.

B. Financial Reports

Federal Cash Transaction Reports are due 30 days after the close of every calendar quarter to the Payment Management Services at https://pms.psc.gov. Failure to submit timely reports may result in adverse award actions blocking access to funds.

Federal Financial Reports are due 30 days after the end of each budget period, and a final report is due 90 days after the end of the Period of Performance.

Grantees are responsible and accountable for reporting accurate information on all required reports: The Progress Reports, the Federal Cash Transaction Report, and the Federal Financial Report.

C. Data Collection and Reporting

All grantees will be required to collect and report data pertaining to activities, processes, and outcomes via the IHS Behavioral Health Portal, within 30 days after the budget period ends for each project year (specific dates will be listed in the NoA Terms and Conditions). The behavioral health online data portal will be open to project staff on a 24 hour/7 day per week basis for the duration of each reporting period. Technical assistance for web-based data entry will be timely and readily available to awardees by assigned IHS staff.

The annual data reports will include compilation of quantitative data (e.g., number served, screenings completed, etc.) and qualitative or narrative (text) data. Reporting elements should be specific to activities/programs, processes, and outcomes, such as performance measures and other data relevant to evaluation outcomes including intended results (i.e., impact and outcomes).

For program purposes, the IHS will compile and provide aggregate program statistics, including associated community-level health care facility data available in the National Data Warehouse related to suicide risk screenings. For the Behavioral Health Integration program, the IHS may monitor and collect data related to behavioral health integration services and outcomes for all health care facilities associated with the organizations awarded.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Compliance With Executive Order 13166 Implementation of Services Accessibility Provisions for All Grant Application Packages and Funding Opportunity Announcements

Should you successfully compete for an award, recipients of Federal financial assistance (FFA) from HHS must administer their programs in compliance with Federal civil rights laws that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/ocr/civilrights/understanding/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov, before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants as, described in 45 CFR 75.205.

As required by 45 CFR part 75 Appendix XII, of the Uniform Guidance, NFEs are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General of all information related to violations of Federal criminal law involving fraud, bribery, or gratuity violations potentially affecting the Federal award. 45 CFR 75.113.

Disclosures must be sent in writing to: U.S. Department of Health and Human Services, Indian Health Service, Division of Grants Management, ATTN: Paul Gettys, Acting Director, 5600 Fishers Lane, Mail Stop: 09E70, Rockville, MD 20857 (Include “Mandatory Grant Disclosures” in subject line), Office: (301) 443-5204, Fax: (301) 594-0899, Email: Paul.Gettys@ihs.gov;

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the programmatic issues may be directed to: Steven Whitehorn, Public Health Advisor, Indian Health Service, Division of Behavioral Health, 5600 Fishers Lane, Mail Stop 08N34A, Rockville, MD 20857, Phone: (301) 443-6581, Fax: (301) 594-6213, Email: Steven.Whitehorn@ihs.gov.

2. Questions on grants management and fiscal matters may be directed to: Willis Grant, Senior Grants Management Specialist, Indian Health Service, Division of Grants Management, 5600 Fishers Lane, Mail Stop: 09E70, Rockville, MD 20857, Phone: (301) 443-5204, Fax: (301) 594-0899, Email: Willis.Grant@ihs.gov.

3. Questions on systems matters may be directed to: Paul Gettys, Acting Director, Indian Health Service, Division of Grants Management, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Elizabeth A. Fowler,
Acting Director, Indian Health Service.

[FR Doc. 2021-24040 Filed 11-3-21; 8:45 am]

BILLING CODE 4165-16-P